DEPARTMENT OF HEALTH AND HUMAN SERVICES

Centers for Medicare & Medicaid Services

[CMS-5501-N]

Medicare Program; Pioneer Accountable Care Organization Model: Request for Applications

AGENCY: Centers for Medicare & Medicaid Services (CMS), HHS.

ACTION: Notice.

SUMMARY: This notice announces a request for applications for organizations to participate in the Pioneer Accountable Care Organization Model for a period beginning in 2011 and ending December 2016.

DATES: Letter of Intent Submission Deadline: Interested organizations must submit a nonbinding letter of intent by June 10, 2011 as described on the Innovation Center Web site http://innovations.cms.gov/areas-of-focus/seamless-and-coordinated-care-models/pioneer-aco.

Application Submission Deadline: Applications must be received on or before July 19, 2011.

ADDRESSES: Applications should be submitted by mail to the following address by the date specified in the DATES section of this notice: Pioneer ACO Model, Attention: Maria Alexander, Center for Medicare and Medicaid Innovation, Centers for Medicare and Medicaid Services, Mail Stop S3-13-05, 7500 Security Boulevard, Baltimore, MD 21244-1850.

FOR FURTHER INFORMATION CONTACT: PioneerACO@cms.hhs.gov for questions regarding the aspects of the Pioneer Accountable Care Organization Model or the application process.

SUPPLEMENTARY INFORMATION:

I. Background

We are committed to achieving the three-part aim of better health, better health care, and lower per-capita costs for Medicare, Medicaid, and Childrens' Health Insurance Program beneficiaries. One potential mechanism for achieving this goal is for CMS to partner with groups of health care providers of services and suppliers with a mechanism for shared governance that have formed an Accountable Care Organization (ACO) through which they work together to manage and coordinate care for a specified group of patients. We will pursue such partnerships through two complementary efforts—the Medicare Shared Savings Program and initiatives undertaken by the Center for Medicare and Medicaid Innovation (Innovation Center). The Pioneer ACO Model is an Innovation Center initiative targeted at organizations that can demonstrate the improvements in financial and clinical performance with respect to the care of Medicare beneficiaries that are possible in a mature ACO. To be eligible to participate in the Pioneer ACO Model, organizations would ideally already be coordinating care for a significant portion of patients under financial risk sharing contracts and be positioned to transform both their care and financial models from fee-for-service to a three-part aim, value based model. This notice provides a general overview of the Pioneer ACO Model. For more details see the request for application which is available on the Innovation Center Web site at http://innovations.cms.gov/areas-of-focus/seamless-and-coordinated-care-models/pioneer-aco.

II. Provisions of the Notice

Consistent with its authority under section 1115A of the Social Security Act (of the Act), as added by section 3021 of the Affordable Care Act, to test innovative payment and service delivery models that reduce spending under Medicare, Medicaid, or CHIP, while preserving or enhancing the quality of care, the Innovation Center aims to achieve the following goals through implementation of the Pioneer ACO Model:

• Test a more rapid transition for providers from volume based FFS payments to payment for coordination and outcomes.

• Promote a diversity of successful ACOs, including physician-led ACOs and those serving indigent or rural populations.

This Model will test the effectiveness of a combination of the following:

• Payment arrangements that place a group of providers at joint risk for quality performance and financial performance for the majority of their patients and revenues (including non-Medicare patients and revenues). Such payment arrangements will require participants to transition from fee-for-service to population-based payment by the third performance year. We believe the payment arrangements being tested will provide more opportunities for rapid escalation of shared savings and risk compared to the Medicare Shared Savings Program.

• Technical support in the form of rapid data feedback and shared learning activities.

• Size and scope of testing: We expect to partner with approximately 30 organizations in the Model, with a minimum of 15,000 Medicare beneficiaries each (5,000 for rural ACOs). The application process and selection criteria are described in Section IV of the Request for Applications but in general, applications will be prioritized based on the strength of their care improvement plans, leadership, and commitment to outcomes-based contracts with non-Medicare purchasers. Final selection will be based on the strength of the application and interviews of finalists, together with other factors to promote representation of diverse geographic areas, types of organizations, and types of Medicare populations served.

• Population: ACOs will be accountable for all fee-for-service Medicare beneficiaries that CMS determines are aligned with them, and who have continuous enrollment in Parts A and B during baseline and performance periods, with emphasis on encouraging care of underserved populations and dual eligibles.

• Duration: Between 5 and 6 years (start third or fourth quarter of 2011 and end December 2016, which includes two 1-year optional periods).

III. Collection of Information Requirements

Section 1115A(d) of the Act waives the requirements of the Paperwork Reduction Act of 1995 for the Innovation Center for purposes of testing new payment and service delivery models.

Authority: Section 1115A of the Social Security Act.

Dated: March 10, 2011.
Donald M. Berwick,
Administrator, Centers for Medicare & Medicaid Services.

[FR Doc. 2011-12383 Filed 5-17-11; 8:45 am]

BILLING CODE 4120-01-P